DEPARTMENT OF COMMERCE

National Oceanic and Atmospheric Administration

RIN 0648-XC578

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Research Set-Aside (RSA) Committee will hold public meetings.

DATES: The meetings will be held on Tuesday, April 9, 2013 through Thursday, April 11, 2013. See SUPPLEMENTARY INFORMATION for specific dates and times.

ADDRESSES: The meetings will be held at the Embassy Suites Raleigh Crabtree, 4700 Creedmoor Road, Raleigh, NC 27612; telephone: (919) 881-0000.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, April 9, 2013

1:30 until 3 p.m.—The RSA Committee will meet.

3 p.m.—The Council will convene.

3 p.m. until 4 p.m.—2014 Tilefish ABC will be discussed.

4 p.m. until 5 p.m.—The Standardized Bycatch Reporting Methodology (SBRM) will be discussed.

5 p.m. until 6 p.m.—A Listening Session will be held.

Wednesday, April 10, 2013

9 a.m.—The Council will convene.

9 a.m. until 12 noon—The Council will hold its regular Business Session to approve the December 2012 and February 2013 minutes, receive Organizational Reports, the New England and South Atlantic Liaison Reports, the Executive Director's Report, the Science Report, Committee Reports, and conduct any continuing and/or new business.

1 p.m. until 2 p.m.—Mackerel, Squid, and Butterfish will be discussed.

2 p.m. until 4 p.m.—The Omnibus Recreational Amendment will be discussed.

4 p.m. until 5 p.m.—Reauthorization of the Magnuson-Stevens Fishery Conservation and Management Act (MSA) will be discussed.

Thursday, April 11, 2013

8:30 a.m.—The Council will convene.

8:30 a.m. until 3 p.m.—A Forage Fish Workshop will be held.

Agenda items by day for the Council's Committees and the Council itself are:

Tuesday, April 9, 2013

The RSA Committee will discuss the National Marine Fisheries Service response to our Council letter and the next steps. The Council will review, discuss, and recommend any changes to the 2014 Tilefish ABC. The Council will review and approve the draft environmental assessment for the SBRM Omnibus Amendment. The Council will hold a Listening Session.

Wednesday, April 10, 2013

The Council will hold its regular Business Session to approve the December 2012 and February 2013 minutes, receive Organizational Reports, the New England and South Atlantic Liaison Reports, the Executive Director's Report, Science Report, Committee Reports, and conduct any continuing and/or new business. The Council will discuss the Squid workshop results and summary and the staff recommendation on the workshop results to include control dates, roll-over provisions, GRAs, port meetings, etc. The Council will review and approve the Omnibus Recreational Public Hearing Document. The Council will discuss potential reauthorization of the MSA and identify issues for Monitoring our Nations Fisheries III.

Thursday, April 11, 2013

A Forage Fish Workshop will be held to discuss the key issues relevant to forage fish assessment and management under the MSA. A panel of experts will discuss the role of forage species within ecosystems and best practices with respect to their exploitation, taking their role(s) within ecosystems into account.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: March 18, 2013.
Tracey L. Thompson,
Acting Deputy Director, Office of Sustainable Fisheries, National Marine Fisheries Service.

[FR Doc. 2013-06486 Filed 3-20-13; 8:45 am]

BILLING CODE 3510-22-P